DEPARTMENT OF TRANSPORTATION

Federal Aviation Administration

14 CFR Part 39

[Docket No. FAA-2005-23475; Directorate Identifier 2005-NM-117-AD]

RIN 2120-AA64

Airworthiness Directives; Empresa Brasileira de Aeronautica S.A. (EMBRAER) Model ERJ 170 Airplanes

AGENCY: Federal Aviation Administration (FAA), Department of Transportation (DOT).

ACTION: Notice of proposed rulemaking (NPRM).

SUMMARY: The FAA proposes to adopt a new airworthiness directive (AD) for all EMBRAER Model ERJ 170 airplanes. This proposed AD would require revising the Airworthiness Limitations section (ALS) of the airplane maintenance manual (AMM) to include new, specific maintenance tasks related to the incorporation of a new horizontal stabilizer actuator. This proposed AD also would require revising the ALS of the AMM to include revised repetitive inspection intervals for certain tasks in the maintenance plan related to the aileron and flap/slat flight controls system. This proposed AD results from safety assessments of the aileron and flap/slat flight controls system, conducted after the type certification of the airplane, which showed that some dormant faults did not comply with the safety assessment criteria. We are proposing this AD to prevent failure of the aileron and flap/slat controls system, which could result in reduced controllability of the airplane.

DATES: We must receive comments on this proposed AD by February 3, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

We invite you to submit any relevant written data, views, or arguments regarding this proposed AD. Include the docket number “FAA-2005-23475; Directorate Identifier 2005-NM-117-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Departmento de Aviacao Civil (DAC), which is the airworthiness authority for Brazil, notified us that an unsafe condition may exist on all EMBRAER Model ERJ 170 airplanes. The DAC advises that a review of safety assessment reports for aileron and flap/slat flight control systems, conducted after type certification of the airplane, showed that certain assumptions used in the analysis of some dormant faults did not comply with the applicable safety assessment criteria. If those dormant faults persist and are combined with other faults that could become evident during flight, the safety margins for the airplane could be reduced significantly. The DAC also advises that incorporating a new horizontal stabilizer actuator for the affected airplanes means that new, specific maintenance tasks are required for the Model ERJ 170 fleet. Dormant faults and improper maintenance tasks, if not corrected, could result in failure of the aileron and flap/slat controls system, and consequent reduced controllability of the airplane.

Relevant Service Information

EMBRAER has also issued Temporary Revision (TR) 1-3, dated December 27, 2004, to EMBRAER 170 Maintenance Review Board (MRB) Report MRB-1621. This document revises the repetitive inspection intervals of MRB tasks 27-11-00-002 (Operational Check of Control-Yoke Disconnect System) and 27-11-11-001 (Operational Check of Aileron Override Unit).

EMBRAER has also issued the following revisions to the maintenance tasks in the EMBRAER 170 Airplane Maintenance Manual (AMM), all dated January 25, 2005. Any applicable corrective actions are done in accordance with the applicable AMM task.

EMBRAER Maintenance Tasks
AMM chapter | Task No. | Description
27-11-03 | 27-11-03-710-801-A | Test for broken aileron control cables, and replace the aileron control cable if necessary.
27-11-03 | 27-11-03-720-801-A | Test the tension of the aileron control cables, and adjust if necessary.
27-41-01 | 27-41-01-210-801-A | Do a general visual inspection for the presence of locking nuts in the cover plate of the external ball return for the horizontal stabilizer trim actuator (HSTA); and for cracks, or excessive damage of the external ball return cover plate. If one or more nuts are missing or if there is damage on the cover plate, the corrective action is to replace the HSTA.
27-41-01 | 27-41-01-220-801-A | Do a detailed visual inspection of the HSTA no-back gearbox for signs of oil leakage, oil contamination, damaged gears, damaged pawl, damaged O-ring, damaged lower gimbal assembly, damaged or loose wiring, broken wire harnesses, damaged bonding strap, and cracked mechanical stops; and corrective actions if necessary. The corrective actions range from replacing a component to replacing the HSTA (for a damaged pawl, damage to the lower gimbal assembly, damaged bonding strap, and damaged mechanical stop).
27-41-01 | 27-41-01-220-802-A | Do a detailed visual inspection for damage of the ballscrew of the HSTA, and replace the HSTA if necessary.
27-81-01 | 27-81-01-710-801-A | Adjust slat actuators and do an operational test.

Accomplishing the actions specified in the service information is intended to adequately address the unsafe condition. The DAC mandated the service information and issued Brazilian airworthiness directive 2005-03-02, dated April 20, 2005, to ensure the continued airworthiness of these airplanes in Brazil.

FAA's Determination and Requirements of the Proposed AD

This airplane model is manufactured in Brazil and is type certificated for operation in the United States under the provisions of section 21.29 of the Federal Aviation Regulations (14 CFR 21.29) and the applicable bilateral airworthiness agreement. Pursuant to this bilateral airworthiness agreement, the DAC has kept the FAA informed of the situation described above. We have examined the DAC's findings, evaluated all pertinent information, and determined that we need to issue an AD for airplanes of this type design that are certificated for operation in the United States.

Therefore, we are proposing this AD, which would require revising the Airworthiness Limitations section of the Instructions for Continued Airworthiness in the EMBRAER 170 AMM to include new, specific maintenance tasks related to the incorporation of a new horizontal stabilizer actuator; and revised repetitive inspection intervals for certain tasks in the maintenance plan related to the aileron and flap/slat flight controls system.

Difference Between the Proposed AD and the Brazilian Airworthiness Directive

Brazilian airworthiness directive 2005-03-02 specifies that operators should alter the approved maintenance plan, but does not specify that the changes are limitations. Therefore, this proposed AD would specify a revision to the Airworthiness Limitations section of the Instructions for Continued Airworthiness. This difference has been coordinated with the CTA.

Costs of Compliance

The following table provides the estimated costs for U.S. operators to comply with this proposed AD.

This proposed AD would affect about 42 airplanes of U.S. registry. The proposed actions would take about 1 work hour per airplane, at an average labor rate of $65 per work hour. Based on these figures, the estimated cost of the proposed AD for U.S. operators is $2,730, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira De Aeronautica S.A. (EMBRAER): Docket No. FAA-2005-23475; Directorate Identifier 2005-NM-117-AD.

Comments Due Date

(a) The FAA must receive comments on this AD action by February 3, 2005

Affected ADs

(b) None.

Applicability

(c) This AD applies to all EMBRAER Model ERJ 170-100LR, -100 STD, -100SE, and -100 SU airplanes, certificated in any category.

Unsafe Condition

(d) This AD results from safety assessments of the aileron and flap/slat flight controls system, conducted after the type certification of the airplane, which showed that some dormant faults did not comply with the safety assessment criteria. We are issuing this AD to prevent failure of the aileron and flap/slat controls system, which could result in reduced controllability of the airplane.

Compliance

(e) You are responsible for having the actions required by this AD performed within the compliance times specified, unless the actions have already been done.

Airplane Maintenance Manual (AMM) Revisions

(f) Within 30 days after the effective date of this AD: Revise the Airworthiness Limitations section of the Instructions for Continued Airworthiness in the EMBRAER 170 AMM to include revisions to the maintenance tasks and repetitive inspections intervals, and applicable corrective actions that are approved by either the Manager, International Branch, ANM-116, Transport Airplane Directorate, FAA; or the Departmento de Aviacao Civil (DAC), (or its delegated agent). The revisions in paragraphs (f)(1) and (f)(2) of this AD are one approved method.

(1) EMBRAER Temporary Revision (TR) 1-3 of the EMBRAER 170 Maintenance Review Board (MRB) Report MRB-1621, dated December 27, 2004, to the EMBRAER 170 AMM that includes revised repetitive inspection intervals for MRB tasks 27-11-00-002 (Operational Check of Control-Yoke Disconnect System) and 27-11-11-001 (Operational Check of Aileron Override Unit). Where the revision requires a compliance time that is less than 700 flight hours after the effective date of this AD, do the action within 700 flight hours after the effective date of this AD. Thereafter, except as provided by paragraph (h) of this AD, no alternative inspection intervals may be approved.

(2) The revised EMBRAER 170 AMM maintenance tasks identified in Table 1 of this AD that include new maintenance tasks and inspections related to the incorporation of a new horizontal stabilizer actuator. Thereafter, except as provided by paragraph (h) of this AD, no alternative tasks or inspections may be approved.

Table 1.—EMBRAER 170 AMM Maintenance Tasks
AMM chapter | Task Nos. | Date | Title
27-11-03 | 27-11-03-710-801-A, 27-11-03-720-801-A | January 25, 2005 | Aileron Control Cable—Adjustment/Test.
27-41-01 | 27-41-01-210-801-A, 27-41-01-220-801-A, 27-41-01-220-802-A | January 25, 2005 | Horizontal Stabilizer Trim Actuator—Inspection/Check.
27-81-01 | 27-81-01-710-801-A | January 25, 2005 | Slat Actuator—Adjustment/Test.

Alternative Methods of Compliance (AMOCs)

(g)(1) The Manager, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Brazilian airworthiness directive 2005-03-02, dated April 20, 2005, also addresses the subject of this AD.

Issued in Renton, Washington, on December 20, 2005.
Kalene C. Yanamura,
Acting Manager, Transport Airplane Directorate, Aircraft Certification Service.

[FR Doc. E5-8242 Filed 1-3-06; 8:45 am]

BILLING CODE 4910-13-P